POSTAL SERVICE

39 CFR Part 111

Shipping Label Requirements

AGENCY: U.S. Postal Service.

ACTION: Final rule.

SUMMARY: The U.S. Postal Service, in its efforts to make package shipping easier for mailers, is developing standard guidelines for creating package shipping labels. The following changes are being made to the markings (and endorsements) and Delivery Confirmation requirements in support of this effort: Addition of a service indicator at the top of the label to identify the class of mail; and modifications to the Delivery Confirmation format to support the new label design and identify the service option requested.

These changes are being incorporated into the Domestic Mail Manual (DMM) and subsequently into a publication, which will identify requirements and specifications to assist mailers in designing their shipping labels.

EFFECTIVE DATE: April 5, 2001.

FOR FURTHER INFORMATION CONTACT: John Gullo, 202-268-7322.

SUPPLEMENTARY INFORMATION: On December 1, 2000, the Postal Service published in the Federal Register proposed changes to the shipping label requirements (65 FR 75210). No comments were received so the Postal Service is adopting the following requirements.

List of Subjects in 39 CFR Part 111

Postal Service.

PART 111—[AMENDED]

1. The authority citation for 39 CFR Part 111 continues to read as follows:

Authority: 5 U.S.C. 552(a); 39 U.S.C. 101, 401, 403, 404-414, 3001-3011, 3201-3219, 3403-3406, 3621, 3626, 5001.

2. Revise the DMM as follows:

Domestic Mail Manual (DMM)

* * * * *

E Eligibility

* * * * *

E100 First-Class Mail

* * * * *

E120 Priority Mail

* * * * *

1.4 MARKING

* * * * *

[Add the following after the existing paragraph in 1.4:]

If shipping address labels are used, it is recommended that they contain the Priority Mail service indicator composed of two elements, the service icon and service banner (see Exhibit 1.4).

(a) The service icon should appear in a 1-inch square in the upper left corner of the shipping label. The letter “P” must be printed inside the 1-inch square and must be 0.75 inches (¾″) or greater. A minimum ¾-point line must border the 1-inch square.

(b) The service banner should appear directly below the postage payment area and the service icon, and it should extend across the shipping label. When the service banner is used, the text “USPS PRIORITY MAIL” must be printed in minimum 20-point bold sans serif typeface, uppercase letters, centered within the banner, and bordered above and below by minimum 1-point separator lines. There must be a 1/16-inch clearance above and below the text.

[Add the following Exhibit:]

Exhibit 1.4

Priority Mail Service Indicator

* * * * *

M MAIL PREPARATION AND SORTATION

M000 General Preparation Standards

M010 Mailpieces

* * * * *

M012 Markings and Endorsements

* * * * *

3.1 Basic Markings

* * * * *

[Add the following after the existing paragraph in 3.1:]

Optionally, the basic required marking may be printed on the shipping address label as service indicators composed of a service icon and service banner:

(a) The service icon that will identify all Package Services subclasses will be a 1-inch solid black square. If the service icon is used, it must appear in the upper left corner of the shipping label.

(b) The service banner must appear directly below the postage payment area and the service icon, and it must extend across the shipping label. If the service banner is used, the appropriate subclass marking (e.g., PARCEL POST, BOUND PRINTED MATTER, etc.) must be preceded by the text “USPS” and must be printed in minimum 20-point bold sans serif typeface, uppercase letters, centered within the banner, and bordered above and below by minimum 1-point separator lines. There must be a 1/16-inch clearance above and below the text.

[Add the following Exhibit:]

Exhibit 3.1

Package Services Indicators

* * * * *

S SPECIAL SERVICES

S900 Special Postal Services

* * * * *

S918 Delivery Confirmation

* * * * *

[Revise Exhibit 2.1c as follows:]

Exhibit 2.1c

Privately Printed Label

On the Priority Mail label, you must use the registered trademark symbol following the Priority Mail text or add the following statement at the bottom of the label in Helvetica 6 point: “Priority Mail is a registered trademark of the U.S. Postal Service.”

* * * * *

3.3 Printing

[Replace item a with the following:]

a. Each barcoded label must bear a unique Delivery Confirmation PIC barcode as specified in 3.2. The text “USPS DELIVERY CONFIRMATION” (if using retail service option, as specified in 1.4) or “e/USPS DELIVERY CONFIRMATION” (if using electronic service option, as specified in 1.4, and the postage is evident on the mailpiece) must be printed between ⅛ inch and ½ inch above the barcode in minimum 12-point bold sans serif type. Additionally, mailers approved for the electronic service option, at their discretion, may print the text “ELECTRONIC RATE APPROVED #[D-U-N-S® (NUMBER]” in minimum 8-point bold sans serif type directly below the bottom horizontal identification bar (see Exhibit 3.3). Human-readable characters that represent the barcode ID must be printed between ⅛ inch and ½ inch under the barcode in minimum 10-point bold sans serif type. These characters must be parsed in accordance with Publication 91, Confirmation Services Technical Guide. A minimum ⅛-inch clearance must be between the barcode and any printing. The preferred range of widths of narrow bars and spaces is 0.015 inch to 0.017 inch. The width of the narrow bars or spaces must be at least 0.013 inch but no more than 0.021 inch. All bars must be at least ¾ inch high. Minimum 1/16-inch bold bars must appear between ⅛ inch and ½ inch above and below the human-readable endorsements to segregate the Delivery Confirmation barcode from other areas of the shipping label. The line length should extend across the width of the label but must extend the length of the barcode at a minimum (see Exhibit 2.1c). Only information relating to Delivery Confirmation and/or other special services must be placed between these lines. Mailers will be required to comply with this change by October 5, 2001.

* * * * *

[Add the following Exhibit:]

Exhibit 3.3

Electronic Service Option Identification

* * * * *

Stanley F. Mires,
Chief Counsel, Legislative.

[FR Doc. 01-7055 Filed 3-22-01; 8:45 am]

BILLING CODE 7210-12-P